NUCLEAR REGULATORY COMMISSION

10 CFR Chapter I

[NRC-2021-0169]

RIN 3150-AK70

Miscellaneous Corrections

AGENCY: Nuclear Regulatory Commission.

ACTION: Final rule.

SUMMARY: The U.S. Nuclear Regulatory Commission (NRC) is amending its regulations to make miscellaneous corrections. These changes include correcting a grammatical error, punctuation, a reference, formatting, a mathematical formula, and spelling; clarifying language; revising contact information; and updating an authority citation and internal procedures. This document is necessary to inform the public of these non-substantive amendments to the NRC's regulations.

DATES: This final rule is effective on December 30, 2021.

ADDRESSES: Please refer to Docket ID NRC-2021-0169 when contacting the NRC about the availability of information for this action. You may obtain publicly-available information related to this action by any of the following methods:

• Federal Rulemaking Website: Go to https://www.regulations.gov and search for Docket ID NRC-2021-0169. Address questions about NRC dockets to Dawn Forder; telephone: 301-415-3407; email: Dawn.Forder@nrc.gov.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents, by appointment, at the PDR, Room P1 B35, One White Flint North, 11555 Rockville Pike, Rockville, Maryland 20852. To make an appointment to visit the PDR, please send an email to pdr.resource@nrc.gov or call 1-800-397-4209 or 301-415-4737, between 8:00 a.m. and 4:00 p.m. (ET), Monday through Friday, except Federal holidays.

FOR FURTHER INFORMATION CONTACT: Angella Love Blair, Office of Nuclear Material Safety and Safeguards, U.S. Nuclear Regulatory Commission, Washington, DC 20555-0001; telephone: 301-415-3453, email: Angella.LoveBlair@nrc.gov.

SUPPLEMENTARY INFORMATION:

I. Introduction

The NRC is amending its regulations in parts 9, 37, 40, 50, 51, 52, 55, 71, 73, and 110 of title 10 of the Code of Federal Regulations (10 CFR). The NRC is making these amendments to correct a grammatical error, punctuation, a reference, formatting, a mathematical formula, and spelling; clarify language; revise contact information; and update an authority citation and internal procedures.

II. Summary of Changes

10 CFR Part 9

Update Authority Citation. This final rule updates the authority citation for 10 CFR part 9 to include the reference for the Social Security Number Fraud Prevention Act of 2017.

10 CFR Parts 37 and 110

Correct Mathematical Formula. This final rule revises appendix A to 10 CFR part 37 and appendix P to 10 CFR part 110 to correct a sum of fractions formula. The correction is necessary to make the expression mathematically reflect that an indefinite number of nuclides may be included in the calculation, consistent with the explanations in the respective rule texts. An ellipsis and a plus sign are added at the appropriate locations, and the summation sign (sigma) and brackets are deleted as unnecessary.

10 CFR Parts 40 and 73

Update Internal Procedures. This final rule revises §§ 40.23(b)(1), 40.66(a), 40.67(a), 73.73(a)(1), and 73.74(a)(1) to add the email address that has been used for submitting advance notices for shipments of radioactive material.

10 CFR Part 50

Revise Contact Information. This final rule amends the introductory text of § 50.74 to refer licensees to the appropriate contact information in § 55.5.

Provide Clarity. This final rule revises section IV.F.2.j of appendix E to 10 CFR part 50 to clarify the emergency preparedness exercise scenarios that must be performed within an 8-year exercise cycle. This revision does not change the regulations; it only clarifies the regulations by adding paragraph numbers and organization.

10 CFR Part 51

Correct Spelling. This final rule amends footnote 4 to § 51.52 to correct “appiled” to read “applied.” This final rule also amends § 51.10(b)(2) to correct “acitivity” to read “activity.”

10 CFR Part 52

Correct Reference. This final rule amends § 52.136 by removing the reference “10 CFR 50.33(a) through (d) and (j)” and adding in its place the reference “10 CFR 50.33(a) through (c) and (j).”

10 CFR Part 55

Correct Punctation. This final rule amends § 55.33(a)(1) to correct the word “applicants” to read “applicant's.”

10 CFR Part 71

Correct a Formatting Error. This final rule corrects § 71.4 to italicize the term licensed material.

10 CFR Part 110

Correct Grammatical Error. This final rule amends the definition for medical isotope in § 110.2 to correct the phrase “radiopharmaceutical for diagnostic, therapeutic procedures or for research and development” to read “radiopharmaceutical for diagnostic or therapeutic procedures or for research and development.”

III. Rulemaking Procedure

Under section 553(b) of the Administrative Procedure Act (5 U.S.C.553(b)), an agency may waive publication in the Federal Register of a notice of proposed rulemaking and opportunity for comment requirements if it finds, for good cause, that it is impracticable, unnecessary, or contrary to the public interest. As authorized by 5 U.S.C. 553(b)(3)(B), the NRC finds good cause to waive notice and opportunity for comment on these amendments, because notice and opportunity for comment is unnecessary. The amendments will have no substantive impact and are of a minor and administrative nature dealing with corrections to certain CFR sections or are related only to management, organization, procedure, and practice. Specifically, the revisions correct a grammatical error, punctuation, a reference, formatting, a mathematical formula, and spelling; clarify language; revise contact information; and update an authority citation and internal procedures. The Commission is exercising its authority under 5 U.S.C.553(b) to publish these amendments as a final rule. The amendments are effective December 30, 2021. These amendments do not require action by any person or entity regulated by the NRC and do not change the substantive responsibilities of any person or entity regulated by the NRC.

IV. Backfitting and Issue Finality

The NRC has determined that the corrections in this final rule would not constitute backfitting as defined in § 50.109, “Backfitting,” and as described in NRC Management Directive (MD) 8.4, “Management of Backfitting, Forward Fitting, Issue Finality, and Information Requests.” These corrections also would not constitute forward fitting as that term is defined and described in MD 8.4 or affect the issue finality of any approval issued under 10 CFR part 52. The amendments are non-substantive in nature, including correcting a grammatical error, punctuation, a reference, formatting, a mathematical formula, and spelling; clarifying language; revising contact information; and updating an authority citation and internal procedures. They impose no new requirements and make no substantive changes to the regulations. The corrections do not involve any provisions that would impose backfits as defined in 10 CFR chapter I, or that would be inconsistent with the issue finality provisions in 10 CFR part 52. For these reasons, the issuance of this final rule would not constitute backfitting or be inconsistent with any of the issue finality provisions in 10 CFR part 52. Therefore, the NRC has not prepared any additional documentation for this correction rulemaking addressing backfitting or issue finality.

V. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31885).

VI. National Environmental Policy Act

The NRC has determined that this final rule is the type of action described in § 51.22(c)(2), which categorically excludes from environmental review rules that are corrective or of a minor, nonpolicy nature and do not substantially modify existing regulations. Therefore, neither an environmental impact statement nor an environmental assessment has been prepared for this rule.

VII. Paperwork Reduction Act

This final rule does not contain a collection of information as defined in the Paperwork Reduction Act of 1995 (44 U.S.C. 3501 et seq.) and, therefore, is not subject to the requirements of the Paperwork Reduction Act of 1995.

VIII. Congressional Review Act

This final rule is not a rule as defined in the Congressional Review Act (5 U.S.C. 801-808).

IX. Compatibility of Agreement State Regulations

Under the “Agreement State Program Policy Statement” approved by the Commission on October 2, 2017, and published in the Federal Register on October 18, 2017 (82 FR 48535), NRC program elements (including regulations) are placed into compatibility categories A, B, C, D, NRC, or adequacy category Health and Safety (H&S). Compatibility Category A program elements are those program elements that are basic radiation protection standards and scientific terms and definitions that are necessary to understand radiation protection concepts. An Agreement State should adopt Category A program elements in an essentially identical manner in order to provide uniformity in the regulation of agreement material on a nationwide basis. Compatibility Category B program elements are those program elements that apply to activities that have direct and significant effects in multiple jurisdictions. An Agreement State should adopt Category B program elements in an essentially identical manner. Compatibility Category C program elements are those program elements that do not meet the criteria of Category A or B, but contain the essential objectives that an Agreement State should adopt to avoid conflict, duplication, gaps, or other conditions that would jeopardize an orderly pattern in the regulation of agreement material on a national basis. An Agreement State should adopt the essential objectives of the Category C program elements. Compatibility Category D program elements are those program elements that do not meet any of the criteria of Category A, B, or C and, therefore, do not need to be adopted by Agreement States for purposes of compatibility. Compatibility Category NRC program elements are those program elements that address areas of regulation that cannot be relinquished to the Agreement States under the Atomic Energy Act of 1954, as amended, or provisions of 10 CFR. These program elements should not be adopted by the Agreement States. Compatibility Category H&S program elements are program elements that are required because of a particular health and safety role in the regulation of agreement material within the State and should be adopted in a manner that embodies the essential objectives of the NRC program. The portions of this final rule that amend 10 CFR parts 37, 40, and 71 are a matter of compatibility between the NRC and the Agreement States, thereby providing consistency among Agreement State and NRC requirements, and are listed in the following table. The changes to 10 CFR parts 9, 50, 51, 52, 55, 73, and 110 categories are not subject to Agreement State jurisdiction and consequently are not required for compatibility.

Compatibility Table
Section | Change | Subject | Compatibility: Existing | Compatibility: New
Part 37
Appendix A to Part 37 | Amend | Category 1 and Category 2 Radioactive Materials | B | B
Part 40
§ 40.23 | Amend | General license for carriers of transient shipments of natural uranium other than in the form of ore or ore residue | NRC | NRC
§ 40.66 | Amend | Requirements for advance notice of export shipments of natural uranium | NRC | NRC
§ 40.67 | Amend | Requirement for advance notice of importation of natural uranium from countries that are not party to the Convention on the Physical Protection of Nuclear Material | NRC | NRC
Part 71
§ 71.4 | Amend | Definitions (Licensed material) | D | D

List of Subjects

10 CFR Part 9

Administrative practice and procedure, Courts, Criminal penalties, Freedom of information, Government employees, Privacy, Reporting and recordkeeping requirements, Sunshine Act.

10 CFR Part 37

Byproduct material, Criminal penalties, Exports, Hazardous materials transportation, Imports, Licensed material, Nuclear materials, Penalties, Radioactive materials, Reporting and recordkeeping requirements, Security measures.

10 CFR Part 40

Criminal penalties, Exports, Government contracts, Hazardous materials transportation, Hazardous waste, Nuclear energy, Nuclear materials, Penalties, Reporting and recordkeeping requirements, Source material, Uranium, Whistleblowing.

10 CFR Part 50

Administrative practice and procedure, Antitrust, Backfitting, Classified information, Criminal penalties, Education, Emergency planning, Fire prevention, Fire protection, Incorporation by reference, Intergovernmental relations, Nuclear power plants and reactors, Penalties, Radiation protection, Reactor siting criteria, Reporting and recordkeeping requirements, Whistleblowing.

10 CFR Part 51

Administrative practice and procedure, Environmental impact statements, Hazardous waste, Nuclear energy, Nuclear materials, Nuclear power plants and reactors, Reporting and recordkeeping requirements.

10 CFR Part 52

Administrative practice and procedure, Antitrust, Combined license, Early site permit, Emergency planning, Fees, Incorporation by reference, Inspection, Issue finality, Limited work authorization, Nuclear power plants and reactors, Probabilistic risk assessment, Prototype, Reactor siting criteria, Redress of site, Penalties, Reporting and recordkeeping requirements, Standard design, Standard design certification.

10 CFR Part 55

Criminal penalties, Manpower training programs, Nuclear power plants and reactors, Penalties, Reporting and recordkeeping requirements.

10 CFR Part 71

Criminal penalties, Hazardous materials transportation, Incorporation by reference, Intergovernmental relations, Nuclear materials, Packaging and containers, Penalties, Radioactive materials, Reporting and recordkeeping requirements.

10 CFR Part 73

Criminal penalties, Exports, Hazardous materials transportation, Incorporation by reference, Imports, Nuclear energy, Nuclear materials, Nuclear power plants and reactors, Penalties, Reporting and recordkeeping requirements, Security measures.

10 CFR Part 110

Administrative practice and procedure, Classified information, Criminal penalties, Exports, Incorporation by reference, Imports, Intergovernmental relations, Nuclear energy, Nuclear materials, Nuclear power plants and reactors, Penalties, Reporting and recordkeeping requirements, Scientific equipment.

For the reasons set out in the preamble and under the authority of the Atomic Energy Act of 1954, as amended; the Energy Reorganization Act of 1974, as amended; and 5 U.S.C. 552 and 553, the NRC is adopting the following amendments to 10 CFR chapter I:

PART 9—PUBLIC RECORDS

1. The authority citation for part 9 is revised to read as follows:

Authority: Atomic Energy Act of 1954, sec. 161 (42 U.S.C. 2201); Energy Reorganization Act of 1974, sec. 201 (42 U.S.C. 5841); 44 U.S.C. 3504 note.

Subpart A also issued under 31 U.S.C. 9701.

Subpart B also issued under 5 U.S.C. 552a.

Subpart C also issued under 5 U.S.C. 552b.

Subpart E also issued under 42 U.S.C. 405 note.

PART 37—PHYSICAL PROTECTION OF CATEGORY 1 AND CATEGORY 2 QUANTITIES OF RADIOACTIVE MATERIAL

2. The authority citation for part 37 continues to read as follows:

Authority: Atomic Energy Act of 1954, secs. 11, 53, 81, 103, 104, 147, 148, 149, 161, 182, 183, 223, 234, 274 (42 U.S.C. 2014, 2073, 2111, 2133, 2134, 2167, 2168, 2169, 2201, 2232, 2233, 2273, 2282, 2021); Energy Reorganization Act of 1974, secs. 201, 202 (42 U.S.C. 5841, 5842); 44 U.S.C. 3504 note.

3. In appendix A to part 37, revise the mathematical formula to read as follows:

Appendix A to Part 37—Category 1 and Category 2 Radioactive Materials

* * * * *

PART 40—DOMESTIC LICENSING OF SOURCE MATERIAL

4. The authority citation for part 40 continues to read as follows:

Authority: Atomic Energy Act of 1954, secs. 62, 63, 64, 65, 69, 81, 83, 84, 122, 161, 181, 182, 183, 184, 186, 187, 193, 223, 234, 274, 275 (42 U.S.C. 2092, 2093, 2094, 2095, 2099, 2111, 2113, 2114, 2152, 2201, 2231, 2232, 2233, 2234, 2236, 2237, 2243, 2273, 2282, 2021, 2022); Energy Reorganization Act of 1974, secs. 201, 202, 206, 211 (42 U.S.C. 5841, 5842, 5846, 5851); Uranium Mill Tailings Radiation Control Act of 1978, sec. 104 (42 U.S.C. 7914); 44 U.S.C. 3504 note.

5. In § 40.23, revise paragraph (b)(1) to read as follows:

§ 40.23 General license for carriers of transient shipments of natural uranium other than in the form of ore or ore residue.

* * * * *

(b) * * *

(1) Persons generally licensed under paragraph (a) of this section, who plan to carry a transient shipment with scheduled stops at a United States port, shall notify the Director Office of Nuclear Security and Incident Response, by email (preferred method) to AdvanceNotifications.Resource@nrc.gov or using an appropriate method listed in § 40.5. The notification must be in writing and must be received at least 10 days before transport of the shipment commences at the shipping facility.

* * * * *

6. In § 40.66:

a. Revise paragraph (a); and

b. Remove the undesignated paragraph following paragraph (a).

The revision reads as follows:

§ 40.66 Requirements for advance notice of export shipments of natural uranium.

(a) Each licensee authorized to export natural uranium, other than in the form of ore or ore residue, in amounts exceeding 500 kilograms, shall notify the Director, Office of Nuclear Security and Incident Response, by email (preferred method) to AdvanceNotifications.Resource@nrc.gov or by an appropriate method listed in § 40.5. The notification must be in writing and must be received at least 10 days before transport of the shipment commences at the shipping facility.

* * * * *

7. In § 40.67, revise paragraph (a) to read as follows:

§ 40.67 Requirement for advance notice for importation of natural uranium from countries that are not party to the Convention on the Physical Protection of Nuclear Material.

(a) Each licensee authorized to import natural uranium, other than in the form of ore or ore residue, in amounts exceeding 500 kilograms, from countries not party to the Convention on the Physical Protection of Nuclear Material (see appendix F to part 73 of this chapter) shall notify the Director, Office of Nuclear Security and Incident Response, by email (preferred method) to AdvanceNotifications.Resource@nrc.gov or using an appropriate method listed in § 40.5. The notification must be in writing and must be received at least 10 days before transport of the shipment commences at the shipping facility.

* * * * *

PART 50—DOMESTIC LICENSING OF PRODUCTION AND UTILIZATION FACILITIES

8. The authority citation for part 50 continues to read as follows:

Authority: Atomic Energy Act of 1954, secs. 11, 101, 102, 103, 104, 105, 108, 122, 147, 149, 161, 181, 182, 183, 184, 185, 186, 187, 189, 223, 234 (42 U.S.C. 2014, 2131, 2132, 2133, 2134, 2135, 2138, 2152, 2167, 2169, 2201, 2231, 2232, 2233, 2234, 2235, 2236, 2237, 2239, 2273, 2282); Energy Reorganization Act of 1974, secs. 201, 202, 206, 211 (42 U.S.C. 5841, 5842, 5846, 5851); Nuclear Waste Policy Act of 1982, sec. 306 (42 U.S.C. 10226); National Environmental Policy Act of 1969 (42 U.S.C. 4332); 44 U.S.C. 3504 note; Sec. 109, Pub. L. 96-295, 94 Stat. 783.

9. In § 50.74, revise the introductory text to read as follows:

§ 50.74 Notification of change in operator or senior operator status.

Each licensee shall notify the appropriate NRC contact, as described in § 55.5 of this chapter, within 30 days of the following in regard to a licensed operator or senior operator:

* * * * *

10. In appendix E to part 50, revise paragraph 2.j of section IV.F to read as follows:

Appendix E to Part 50—Emergency Planning and Preparedness for Production and Utilization Facilities

* * * * *

IV. * * *

F. * * *

2. * * *

j. (i) The exercises conducted under paragraph 2 of this section by nuclear power reactor licensees must provide the opportunity for the ERO to demonstrate proficiency in the key skills necessary to implement the principal functional areas of emergency response identified in paragraph 2.b of this section.

(ii) Each exercise must provide the opportunity for the ERO to demonstrate key skills specific to emergency response duties in the control room, TSC, OSC, EOF, and joint information center.

(iii) In each 8-calendar-year exercise cycle, nuclear power reactor licensees shall vary the content of scenarios during exercises conducted under paragraph 2 of this section to provide the opportunity for the ERO to demonstrate proficiency in the key skills necessary to respond to the following scenario elements:

(1) Hostile action directed at the plant site;

(2) No radiological release or an unplanned minimal radiological release that does not require public protective actions;

(3) An initial classification of, or rapid escalation to, a Site Area Emergency or General Emergency;

(4) Implementation of strategies, procedures, and guidance under § 50.155(b)(2); and

(5) Integration of offsite resources with onsite response.

(iv) The licensee shall maintain a record of exercises conducted during each 8-year exercise cycle that documents the content of scenarios used to comply with the requirements of section IV.F.2.j of this appendix.

(v) Each licensee shall conduct a hostile action exercise for each of its sites no later than December 31, 2015.

(vi) The first 8-year exercise cycle for a site will begin in the calendar year in which the first hostile action exercise is conducted. For a site licensed under 10 CFR part 52, the first 8-year exercise cycle begins in the calendar year of the initial exercise required by section IV.F.2.a of this appendix.

* * * * *

PART 51—ENVIRONMENTAL PROTECTION REGULATIONS FOR DOMESTIC LICENSING AND RELATED REGULATORY FUNCTIONS

11. The authority citation for part 51 is revised to read as follows:

Authority: Atomic Energy Act of 1954, secs. 161, 193 (42 U.S.C. 2201, 2243); Energy Reorganization Act of 1974, secs. 201, 202 (42 U.S.C. 5841, 5842); National Environmental Policy Act of 1969 (42 U.S.C. 4332, 4334, 4335); Nuclear Waste Policy Act of 1982, secs. 144(f), 121, 135, 141, 148 (42 U.S.C. 10134(f), 10141, 10155, 10161, 10168); 44 U.S.C. 3504 note.

§ 51.10 [Amended]

12. In § 51.10, amend paragraph (b)(2) by removing “acitivity” and adding in its place “activity”.

§ 51.52 [Amended]

13. In § 51.52, amend footnote 4 by removing “appiled” and adding in its place “applied”.

PART 52—LICENSES, CERTIFICATIONS, AND APPROVALS FOR NUCLEAR POWER PLANTS

14. The authority citation for part 52 continues to read as follows:

Authority: Atomic Energy Act of 1954, secs. 103, 104, 147, 149, 161, 181, 182, 183, 185, 186, 189, 223, 234 (42 U.S.C. 2133, 2134, 2167, 2169, 2201, 2231, 2232, 2233, 2235, 2236, 2239, 2273, 2282); Energy Reorganization Act of 1974, secs. 201, 202, 206, 211 (42 U.S.C. 5841, 5842, 5846, 5851); 44 U.S.C. 3504 note.

§ 52.136 [Amended]

15. In § 52.136, remove the reference “10 CFR 50.33(a) through (d) and (j)” and add in its place the reference “10 CFR 50.33(a) through (c) and (j)”.

PART 55—OPERATORS' LICENSES

16. The authority citation for part 55 is revised to read as follows:

Authority: Atomic Energy Act of 1954, secs. 107, 161, 181, 182, 183, 186, 187, 223, 234 (42 U.S.C. 2137, 2201, 2231, 2232, 2233, 2236, 2237, 2273, 2282); Energy Reorganization Act of 1974, secs. 201, 202 (42 U.S.C. 5841, 5842); Nuclear Waste Policy Act of 1982, sec. 306 (42 U.S.C. 10226); 44 U.S.C. 3504 note.

§ 55.33 [Amended]

17. In § 55.33, amend paragraph (a)(1) by removing “applicants” and adding in its place “applicant's”.

PART 71—PACKAGING AND TRANSPORTATION OF RADIOACTIVE MATERIAL

18. The authority citation for part 71 continues to read as follows:

Authority: Atomic Energy Act of 1954, secs. 53, 57, 62, 63, 81, 161, 182, 183, 223, 234, 1701 (42 U.S.C. 2073, 2077, 2092, 2093, 2111, 2201, 2232, 2233, 2273, 2282, 2297f); Energy Reorganization Act of 1974, secs. 201, 202, 206, 211 (42 U.S.C. 5841, 5842, 5846, 5851); Nuclear Waste Policy Act of 1982, sec. 180 (42 U.S.C. 10175); 44 U.S.C. 3504 note.

Section 71.97 also issued under Sec. 301, Pub. L. 96-295, 94 Stat. 789 (42 U.S.C. 5841 note).

§ 71.4 [Amended]

19. In § 71.4, remove “Licensed material” and add in its place the term “Licensed material”.

PART 73—PHYSICAL PROTECTION OF PLANTS AND MATERIALS

20. The authority citation for part 73 is revised to read as follows:

Authority: Atomic Energy Act of 1954, secs. 53, 147, 149, 161, 170D, 170E, 170H, 170I, 223, 229, 234, 1701 (42 U.S.C. 2073, 2167, 2169, 2201, 2210d, 2210e, 2210h, 2210i, 2273, 2278a, 2282, 2297f); Energy Reorganization Act of 1974, secs. 201, 202 (42 U.S.C. 5841, 5842); Nuclear Waste Policy Act of 1982, secs. 135, 141 (42 U.S.C. 10155, 10161); 44 U.S.C. 3504 note.

Section 73.37(b)(2) also issued under sec. 301, Pub. L. 96-295, 94 Stat. 789 (42 U.S.C. 5841 note).

21. In § 73.73, revise paragraph (a)(1) to read as follows:

§ 73.73 Requirement for advance notice and protection of export shipments of special nuclear material of low strategic significance.

(a) * * *

(1) Notify in writing the Director, Office of Nuclear Security and Incident Response, by email (preferred method) to AdvanceNotifications.Resource@nrc.gov or by using any appropriate method listed in § 73.4;

* * * * *

22. In § 73.74, revise paragraph (a)(1) to read as follows:

§ 73.74 Requirement for advance notice and protection of import shipments of nuclear material from countries that are not party to the Convention on the Physical Protection of Nuclear Material.

(a) * * *

(1) Notify in writing the Director, Office of Nuclear Security and Incident Response, by email (preferred method) to AdvanceNotifications.Resource@nrc.gov or by using any appropriate method listed in § 73.4;

* * * * *

PART 110—EXPORT AND IMPORT OF NUCLEAR EQUIPMENT AND MATERIAL

23. The authority citation for part 110 is revised to read as follows:

Authority: Atomic Energy Act of 1954, secs. 11, 51, 53, 54, 57, 62, 63, 64, 65, 81, 82, 103, 104, 109, 111, 121, 122, 123, 124, 126, 127, 128, 129, 133, 134, 161, 170H, 181, 182, 183, 184, 186, 187, 189, 223, 234 (42 U.S.C. 2014, 2071, 2073, 2074, 2077, 2092, 2093, 2094, 2095, 2111, 2112, 2133, 2134, 2139, 2141, 2151, 2152, 2153, 2154, 2155, 2156, 2157, 2158, 2160c, 2160d, 2201, 2210h, 2231, 2232, 2233, 2234, 2236, 2237, 2239, 2273, 2282); Energy Reorganization Act of 1974, sec. 201 (42 U.S.C. 5841); Administrative Procedure Act (5 U.S.C. 552, 553); 42 U.S.C. 2139a, 2155a; 44 U.S.C. 3504 note.

Section 110.1(b) also issued under 22 U.S.C. 2403; 22 U.S.C. 2778a; 50 App. U.S.C. 2401 et seq.

24. In § 110.2, amend the definition for Medical isotope by removing the phrase “radiopharmaceutical for diagnostic, therapeutic procedures or for research and development” and adding in its place the phrase “radiopharmaceutical for diagnostic or therapeutic procedures or for research and development.”

25. In appendix P to part 110, revise the mathematical formula to read as follows:

Appendix P to Part 110—Category 1 and 2 Radioactive Material

* * * * *

Dated: November 3, 2021.
For the Nuclear Regulatory Commission.
Cindy K. Bladey,
Chief, Regulatory Analysis and Rulemaking Support Branch, Division of Rulemaking, Environmental, and Financial Support, Office of Nuclear Material Safety and Safeguards.

[FR Doc. 2021-24472 Filed 11-29-21; 8:45 am]

BILLING CODE 7590-01-P